DEPARTMENT OF HOMELAND SECURITY

Coast Guard

33 CFR Part 165

[CGD13-05-006]

Security and Safety Zone: Protection of Large Passenger Vessels, Portland, OR

AGENCY: Coast Guard, DHS.

ACTION: Notice of enforcement.

SUMMARY: The Captain of the Port Portland, OR will begin, on May 5, 2005, enforcing a small area of the greater Large Passenger Vessel Security and Safety Zones that were established in September 2003. The zones provide for the security and safety of large passenger vessels in the navigable waters of Portland, OR and adjacent waters. These security and safety zones will be enforced for passenger cruise ships only and only from the mouth of the Columbia River at buoy 14 upriver to, and including, Astoria, OR, until further notice.

DATES: This notice of enforcement for 33 CFR 165.1318 will be effective commencing May 5, 2005.

FOR FURTHER INFORMATION CONTACT: LT Tad Drozdowski, c/o Captain of the Port Portland, OR 6767 North Basin Avenue Portland, OR 97217 at (503) 240-9301 to obtain information concerning enforcement of this rule.

SUPPLEMENTARY INFORMATION: On September 12, 2003, the Coast Guard published a final rule (68 FR 53677) establishing regulations in 33 CFR 165.1318 for the security and safety of large passenger vessels in the navigable waters of Portland, OR and adjacent waters of Oregon and Washington. These security and safety zones provide for the regulation of vessel traffic in the vicinity of certain large passenger vessels (as defined in § 165.1318 (b)) and exclude persons and vessels from the immediate vicinity of these large passenger vessels.

On May 5, 2005, for passenger cruise ships only, the Captain of the Port, Portland, OR will begin enforcing only the area of the Large Passenger Vessel Safety and Security Zones, which were established in 33 CFR 165.1318, from the mouth of the Columbia River at buoy 14 upriver to, and including, Astoria, OR. Entry into these zones is prohibited unless otherwise exempted or excluded under the final rule or unless authorized by the Captain of the Port or his designee. The Captain of the Port may be assisted by other Federal, State, or local agencies in enforcing this security zone. These security and safety zones will be enforced until further notice.

Dated: April 7, 2005.
Paul D. Jewell,
Captain, U.S. Coast Guard, Captain of the Port, Portland, OR.

[FR Doc. 05-7895 Filed 4-19-05; 8:45 am]

BILLING CODE 4910-15-P